DEPARTMENT OF TRANSPORTATION

Federal Aviation Administration

Notice of Intent To Rule on Request To Release Airport Land at March Inland Port, Riverside, CA

AGENCY: Federal Aviation Administration, Department of Transportation.

ACTION: Notice of Request To Release Airport Land.

SUMMARY: The Federal Aviation Administration (FAA) proposes to rule and invites public comment on the release of two parcels comprised of approximately 184.70 acres of airport property at March Inland Port, Riverside, California, from all restrictions of the surplus property agreement since the land is not needed for airport purposes. Reuse of the land for commercial/light industrial and environmental mitigation purposes represents a compatible land use. Disposal of the property will provide income for investment in airport improvements and development in accordance with the FAA Policy and Procedures Concerning the Use of Airport Revenue.

DATES: Comments must be received on or before September 26, 2005.

ADDRESSES: Comments on this application may be mailed or delivered in triplicate to the FAA at the following address: Federal Aviation Administration, Airports Division, Federal Register Comment, 15000 Aviation Blvd., Lawndale, CA 90261. In addition, one copy of the comment submitted to the FAA must be mailed or delivered to Mr. Philip A. Rizzo, Executive Director, March Joint Powers Authority, PO Box 7480, Moreno Valley, California 92552.

FOR FURTHER INFORMATION CONTACT: Tony Garcia, Airports Compliance Specialist, Federal Aviation Administration, Airports Division, 15000 Aviation Blvd., Lawndale, CA 90261, telephone (310) 725-3634 and fax (310) 725-6849. The request to release airport property may be reviewed in person by appointment at this same location or at March Joint Powers Authority, Moreno Valley, California.

SUPPLEMENTARY INFORMATION: In accordance with the Wendell H. Ford Aviation Investment and Reform Act for the 21st Century (AIR 21), Public Law 10-181 (Apr. 5, 2000; 114 Stat. 61), this notice must be published in the Federal Register 30 days before the Secretary may waive any condition imposed on a federally obligated airport's interest in surplus property.

The following is a brief overview of the request:

The March Joint Powers Authority (MJPA) requested a release from surplus property agreement obligations for approximately 184.70 acres of airport land consisting of two parcels at March Inland Port, Riverside, California. The property was originally conveyed to MJPA for airport purposes by the United States Air Force as a result of the realignment of the former March Air Force Base. The parcels are located northwest of the airport and separated from the airfield by Interstate 215. Consequently, the land is not contiguous or easily accessible to the airfield and cannot be used for aeronautical purposes. The request for release represents one of the steps contained within the corrective action plan that MJPA has undertaken to reestablish compliance with its Federal obligations. The plan includes an agreement stipulating that the land will be disposed of at its fair market value and the proceeds will only be used for airport purposes. Accordingly, the proceeds from the sale of the parcels have been committed to the purchase of noise mitigation land, for encroachment protection, and for airport improvement and development. The sale of one parcel will provide revenue for airport improvements. Redevelopment of this parcel for non-aeronautical purposes will comply with local zoning and compatible land-use requirements. The other parcel was already sold to acquire noise compatibility land. The acquired land will remain undeveloped, but will still provide March Inland Port with revenue, which will be derived from the sale of multi-species habitat mitigation credits. The release will provide tangible benefits to the airport and serve the interest of civil aviation.

Issued in Hawthorne, California, on July 28, 2005.
George Aiken,
Manager, Safety and Standards Branch, Airports Division, Western-Pacific Region.

[FR Doc. 05-16970 Filed 8-25-05; 8:45 am]

BILLING CODE 4910-13-M